NUCLEAR REGULATORY COMMISSION

10 CFR Part 110

[NRC-2008-0567]

RIN 3150-AI16

Export and Import of Nuclear Equipment and Material; Updates and Clarifications

AGENCY: Nuclear Regulatory Commission.

ACTION: Proposed rule: reopening of comment period for information collection.

SUMMARY: The Nuclear Regulatory Commission (NRC) is reopening the comment period specific to the information collection aspects of a proposed rule published on June 23, 2009 (74 FR 29614), that would amend its regulations that govern the export and import of nuclear equipment and material. The comment period for comments specific to the information collection aspects of the proposed rule closed on July 23, 2009.

DATES: The comment period for the comments specific to the information collection aspects of the proposed rule is reopened and now closes on September 8, 2009. Comments received after this date will be considered if it is practical to do so, but the Commission is able to ensure consideration only for the comments received before this date.

ADDRESSES: Send comments on any aspect of these proposed information collections, including suggestions for reducing the burden and on all issues mentioned in the June 23, 2009, rulemaking, by September 8, 2009, to the Records and FOIA/Privacy Services Branch (T-5 F52), U.S. Nuclear Regulatory Commission, Washington, DC 20555-0001, or by Internet electronic mail to INFOCOLLECTS.RESOURCE@NRC.GOV and to Christine J. Kymn, the Desk Officer, Office of Information and Regulatory Affairs, NEOB-10202, (3150-0036), Office of Management and Budget, Washington, DC 20503. Comments received after this date will be considered if it is practical to do so, but assurance of consideration cannot be given to comments received after this date. You may also e-mail comments to Christine_J._Kymn@omb.eop.gov or comment by telephone at (202) 395-7345.

FOR FURTHER INFORMATION CONTACT: Brooke G. Smith, International Policy Analyst, Office of International Programs, U.S. Nuclear Regulatory Commission, Washington, DC 20555-0001; telephone: (301) 415-2347; e-mail: brooke.smith@nrc.gov.

SUPPLEMENTARY INFORMATION: On June 23, 2009 (74 FR 29614), the Nuclear Regulatory Commission (NRC) published for public comment a proposed rule that would amend its regulations that govern the export and import of nuclear equipment and material. In addition to updating, clarifying and correcting several provisions, this proposed rule would allow Category 1 and 2 quantities of materials listed in 10 CFR Part 110, Appendix P to be imported under a general license. The proposed rule would also revise the definition of “radioactive waste” and remove the definition of “incidental radioactive material” in 10 CFR part 110. The NRC received a request from a stakeholder to extend the comment period on the information collection aspects of the proposed rule. That request is granted. The comment period for the information collection now closes on September 8, 2009.

Dated at Rockville, Maryland, this 6th day of August 2009.
For the Nuclear Regulatory Commission.
Annette Vietti-Cook,
Secretary of the Commission.

[FR Doc. E9-19545 Filed 8-13-09; 8:45 am]

BILLING CODE 7590-01-P